DEPARTMENT OF THE INTERIOR

Bureau of Land Management

[LLORV00000.L10200000.DF0000.LXSSH1040000.17X.HAG 17-0090]

Notice of Public Meeting for the John Day—Snake Resource Advisory Council, Oregon

AGENCY: Bureau of Land Management, Interior.

ACTION: Notice.

SUMMARY: In accordance with the Federal Land Policy and Management Act of 1976 and the Federal Advisory Committee Act of 1972, the U.S. Department of the Interior, Bureau of Land Management (BLM) John Day—Snake Resource Advisory Council (RAC) will meet as indicated below.

DATES: The John Day—Snake RAC will hold a public meeting on Thursday and Friday, May 18 and 19, 2017, starting at 8 a.m. Pacific Daylight Time (PDT) both days.

ADDRESSES: The meeting will be held at the Grand Geyser Hotel, 1996 Main Street, Baker City, OR 97814. The telephone conference line number for the meeting is 1-866-650-5651, Participant Code: 3696961.

FOR FURTHER INFORMATION CONTACT: Lisa Clark, Public Affairs Officer, BLM Prineville District Office, 3050 NE 3rd St., Prineville, Oregon 97754; (541) 416-6700; or lmclark@blm.gov. Persons who use a telecommunications device for the deaf (TDD) may call the Federal Relay Service (FRS) at 1(800) 877-8339 to contact the above individual during normal business hours. The FRS is available 24 hours a day, seven days a week, to leave a message or question with the above individual. You will receive a reply during normal business hours.

SUPPLEMENTARY INFORMATION: The John Day—Snake RAC consists of 15 members appointed by the Secretary of the Interior. Their diverse perspectives are represented in commodity, conservation, and general interests. They provide advice to BLM and Forest Service resource managers regarding management plans and proposed resource actions on public land in central and eastern Oregon. This meeting is open to the public in its entirety. Information to be distributed to the John Day—Snake RAC is requested prior to the start of each meeting.

The May 18 meeting will consist of a field trip to the Greater sage-grouse habitat to the east of Baker City to discuss the presence of the species as well as public uses on the same land. The tour will begin at 8 a.m. PDT and end at 5 p.m. PDT. The May 19 meeting will begin at 8 a.m. PDT and end at 3 p.m. PDT. The agenda will be released online at https://www.blm.gov/site-page/get-involved-resource-advisory-council-near-you-oregon-washington-john-day-rac by May 1, 2017. Agenda items for the meeting include: Discussion and impressions from the field trip; the Baker County Local Improvement Team's work on Greater sage-grouse habitat improvement; Snake River management; the Walden Lake OHV trail proposal; a report from the Deschutes River fee sub-committee; and a discussion on public education opportunities. Any other matters that may reasonably come before the John Day—Snake RAC may also be addressed.

The agenda includes a 30-minute public comment period that will begin at 11:30 on May 19. Each speaker may address the John Day—Snake RAC for a maximum of 5 minutes. Meeting times and the duration of the scheduled public comment period may be extended or altered when the authorized representative considers it necessary to accommodate necessary business and all who seek to be heard regarding matters before the John Day—Snake RAC.

Before including your address, phone number, email address, or other personal identifying information in your comments, please be aware that your entire comment—including your personal identifying information—may be made publicly available at any time. While you can ask us in your comment to withhold your personal identifying information from public review, we cannot guarantee that we will be able to do so.

Donald Gonzalez,
Vale District Manager.

[FR Doc. 2017-07484 Filed 4-12-17; 8:45 am]

BILLING CODE 4310-33-P